DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by March 26, 2007.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: The Institute of Greatly Endangered and Rare Species (T.I.G.E.R.S.), Surfside Beach, SC, PRT-130309.

The applicant requests a permit to import one male and two female captive-born cheetahs (Acinonyx jubatus) from DeWildt Cheetah and Wildlife Centre, DeWildt, South Africa for the purpose of enhancement of the species through conservation education.

Applicant: Nashville Zoo, Nashville, TN, PRT-144911.

The applicant requests a permit to import one male captive-born Central American tapir (Tapirus bairdii) from Zoologico La Marina, San Jose, Costa Rica for the purpose of enhancement of the species through captive breeding.

Applicant: Cincinnati Zoo, Cincinnati, OH, PRT-145194.

The applicant requests a permit to import semen samples from black-footed cats (Felis nigripes) from the wild in South Africa in cooperation with the Government of South Africa for scientific research in an ongoing study “Biomedical Assessment of free-ranging black-footed cats in South Africa”. This notification covers activities to be conducted by the applicant over a five-year period.

Applicant: Jose P. De Ayala, Honolulu, HI, PRT-144838.

The applicant requests a permit to import the sport-hunted trophy of one male bontebok (Damaliscus pygargus pygargus) culled from a captive herd maintained under the management program of the Republic of South Africa, for the purpose of enhancement of the survival of the species.

Applicant: Arthur P. Hoffart, Bozeman, MT, PRT-144999.

The applicant requests a permit to import the sport-hunted trophy of one male bontebok (Damaliscus pygargus pygargus) culled from a captive herd maintained under the management program of the Republic of South Africa, for the purpose of enhancement of the survival of the species.

Applicant: Tarzan Zerbini, Webb City, MO, PRT-065144, 065145, 065146, 065148, 065149, and 088344.

The applicant requests permits to export captive elephants (Elephas maximus) to worldwide locations for the purpose of enhancement of the species through conservation education. The permit numbers and animals are: 065144, Jan; 065145, Roxy; 065146, Shelly; 065148, Bunny; 065149, Marie; and 088344, Luke. This notification covers activities to be conducted by the applicant over a three-year period and the import of any potential progeny born while overseas.

Dated: January 26, 2007.
Lisa J. Lierheimer,
Senior Permit Biologist, Branch of Permits, Division of Management Authority.

[FR Doc. E7-3133 Filed 2-22-07; 8:45 am]

BILLING CODE 4310-55-P